DEPARTMENT OF THE INTERIOR

Fish and Wildlife Service

[FWS-R2-ES-2021-0136; FXES11130200000-212-FF02ENEH00]

Endangered and Threatened Wildlife and Plants; Draft Recovery Plan for the New Mexico Meadow Jumping Mouse

AGENCY: Fish and Wildlife Service, Interior.

ACTION: Notice of availability; request for comments.

SUMMARY: We, the U.S. Fish and Wildlife Service, announce the availability of our draft recovery plan for the New Mexico meadow jumping mouse (Zapus hudsonius luteus). This subspecies occurs in riparian habitats in New Mexico, Arizona, and southern Colorado, and was listed as endangered in 2014 under the Endangered Species Act. We request review and comment on this draft recovery plan from local, State, and Federal agencies; Tribes; nongovernmental organizations; and the public.

DATES: We must receive any comments on or before March 14, 2022. Comments submitted online at http://www.regulations.gov (see ADDRESSES) must be received by 11:59 p.m. Eastern Time on March 14, 2022.

ADDRESSES:

Obtaining Documents: You may obtain a copy of the draft recovery plan and species status assessment by the following methods:

• Internet: Go to one of the following sites:

○ http://www.regulations.gov in Docket No. FWS-R2-ES-2021-0136;

○ http://ecos.fws.gov/ecp/species/7965; or

○ https://www.fws.gov/southwest/es/NewMexico/.

• U.S. mail: Send a request to U.S. Fish and Wildlife Service, New Mexico Ecological Services Field Office (NMESFO), 2105 Osuna NE, Albuquerque, NM 87113.

• Telephone: 505-346-2525 or 800-299-0196.

Submitting Comments: Submit your comments in writing by one of the following methods:

• Internet: http://www.regulations.gov. Search for and submit comments on Docket No. FWS-R2-ES-2021-0136.

• U.S. mail: Public Comments Processing, Attn: Docket No. FWS-R2-ES-2021-0136; U.S. Fish and Wildlife Service Headquarters, MS: PRB/3W, 5275 Leesburg Pike, Falls Church, VA 22041-3803.

For additional information about submitting comments, see Request for Public Comments and Public Availability of Comments under SUPPLEMENTARY INFORMATION.

FOR FURTHER INFORMATION CONTACT: Shawn Sartorius, Field Supervisor, at 505-346-2525, or by email at nmesfo@fws.gov. Individuals who are hearing or speech impaired may call the Federal Relay Service at 1-800-877-8339 for TTY assistance.

SUPPLEMENTARY INFORMATION: We, the U.S. Fish and Wildlife Service (USFWS), announce the availability of our draft recovery plan for New Mexico meadow jumping mouse (Zapus hudsonius luteus), which we listed as endangered in 2014 (79 FR 33119) under the Endangered Species Act of 1973, as amended (ESA; 16 U.S.C. 1531 et seq.). The subspecies is endemic to New Mexico, Arizona, and a small area of southern Colorado. It nests in dry soils and uses dense riparian vegetation up to an elevation of about 9,500 feet. The draft recovery plan includes specific goals, objectives, and criteria that may help to inform our consideration of whether to reclassify the species as threatened (i.e., “downlist”) or remove the subspecies from the Federal List of Endangered and Threatened Wildlife (i.e., “delist”). We request review of and comment on the draft recovery plan from local, State, and Federal agencies; Tribes; nongovernmental organizations; and the public.

Recovery Planning and Implementation

Section 4(f) of the ESA requires the development of recovery plans for listed species, unless such a plan would not promote the conservation of a particular species. Also pursuant to section 4(f) of the ESA, a recovery plan must, to the maximum extent practicable, include:

(1) A description of site-specific management actions as may be necessary to achieve the plan's goals for the conservation and survival of the species;

(2) Objective, measurable criteria that, when met, would support a determination under section 4(a)(1) that the species should be removed from the List of Endangered and Threatened Species; and

(3) Estimates of the time and costs required to carry out those measures needed to achieve the plan's goal and to achieve intermediate steps toward that goal.

In 2016 the USFWS revised its approach to recovery planning, and is now using a process termed recovery planning and implementation (RPI) (see https://www.fws.gov/endangered/esa-library/pdf/RPI.pdf). The RPI approach is intended to reduce the time needed to develop and implement recovery plans, increase recovery plan relevance over a longer timeframe, and add flexibility to recovery plans so they can be adjusted to new information or circumstances. Under RPI, a recovery plan addresses the statutorily required elements under section 4(f) of the Act, including site-specific management actions, objective and measurable recovery criteria, and the estimated time and cost to recovery. The RPI recovery plan is supported by two supplementary documents: A species status assessment (SSA), which describes the best available scientific information related to the biological needs of the species and assessment of threats, and a recovery implementation strategy, which details the particular near-term activities needed to implement the recovery actions identified in the recovery plan. Under this approach, we can more nimbly incorporate new information on species biology or details of recovery implementation by updating these supplementary documents without concurrent revision of the entire recovery plan, unless changes to statutorily required elements are necessary.

Species Background

On June 10, 2014, we published a final rule (79 FR 33119) to list the New Mexico meadow jumping mouse as endangered. On March 16, 2016, we published a final rule (81 FR 14264) designating critical habitat for the subspecies. The New Mexico meadow jumping mouse is a small (181 to 233 millimeters (mm); 7.1 to 9.2 inches (in) in total length) dark brown rodent with an extremely long, bicolored tail (125.1 mm; 4.9 in), with a white underside and yellowish-brown sides. It is a true hibernator, hibernating from October through May, and is active from late May or early June into early October. The subspecies occurs within elevations ranging from approximately 1,372 m (4,500 ft) up to approximately 2,896 m (9,500 ft). It is a habitat specialist that requires dense riparian herbaceous vegetation with a minimum height of 61 cm (24 in) associated with seasonally available or perennial (persistent) flowing water, moist soils, and adjacent uplands that can support the vegetation characteristics needed for jumping mouse foraging, breeding, and hibernating.

Past and current habitat loss has resulted in the extirpation of historical populations and has reduced the size and increased the isolation of existing populations. The primary sources of current and anticipated future habitat loss include (1) livestock, elk, and feral horse grazing pressure that is incompatible with maintaining needed vegetation structure and diversity (i.e., contributes to riparian herbaceous vegetation loss); (2) incompatible water management and use (e.g., dams and water diversion and mowing along irrigation ditches); (3) lack of water due to drought (exacerbated by climate change); and (4) severe wildland fires that cause changes to riparian habitat (also exacerbated by climate change). Additional sources of habitat loss are likely to occur from post-fire scouring floods, stream incision resulting in disconnection of the floodplain from the stream channel, loss of beaver ponds, highway construction and maintenance, residential and commercial development, coalbed methane development, and unregulated recreation.

Recovery Criteria

The draft recovery criteria are summarized below. For a complete description of the rationale behind the objective, measurable criteria, the recovery strategy, site-specific management actions, and estimated time and costs associated with recovery, refer to the draft recovery plan for New Mexico meadow jumping mouse (see ADDRESSES for document availability).

The ultimate recovery goal is to delist the subspecies by ensuring the long-term viability in the wild. The New Mexico meadow jumping mouse currently is known to occur within thirteen 8th hydrological unit code (HUC8) subunits distributed across the subspecies' historical range in eastern Arizona, southern Colorado, and New Mexico. The thirteen HUC8s are within six geographical units (GUs) that contain the currently known populations. In the recovery plan, we define the following criteria for downlisting and delisting.

Downlisting Criteria

Criterion 1: Occupied riparian and adjacent upland New Mexico meadow jumping mouse habitat within each of 13 HUC8s are protected, maintained, and/or restored.

Criterion 2: Within an occupied HUC8, an overall stable or increasing New Mexico meadow jumping mouse estimate population trend is documented over an 8-year period.

Criterion 3: Threats to New Mexico meadow jumping mouse are decreasing or abated when the protection and expansion of occupied New Mexico meadow jumping mouse riparian functionally connected habitat and adjacent upland habitat meet Criteria 1 and 2.

Criterion 4: At least one HUC8 in each of the GUs has functional habitat and population(s) maintained as to meet criteria 1 and 2 above, to ensure genetic and ecological representation.

Delisting Criteria

Criterion 1: Occupied riparian and adjacent upland New Mexico meadow jumping mouse habitat within each of 16 HUC8s are protected, maintained, and/or restored.

Criterion 2: Within an occupied HUC8, an overall stable or increasing New Mexico meadow jumping mouse estimated population trend is documented over a 12-year period.

Criterion 3: Threats to New Mexico meadow jumping mouse are decreasing or abated when the protection and expansion of occupied New Mexico meadow jumping mouse riparian functionally connected habitat and adjacent upland habitat meet Criteria 1 and 2, and significant threats that include excessive grazing, ineffective water management and/or water diversions, stream degradation, and stream incision with flood plain disconnection are controlled or managed to the extent that they do not pose imminent or chronic downward pressures on the New Mexico meadow jumping mouse and its habitat.

Criterion 4: At least two HUC8s in each of the GUs have functional habitat and populations maintained as to meet criteria 1 and 2 above to ensure genetic and ecological representation.

Request for Public Comments

Section 4(f) of the ESA requires us to provide public notice and an opportunity for public review and comment during recovery plan development. It is also our policy to request peer review of recovery plans (59 FR 34270; July 1, 1994). In an appendix to the final recovery plan, we will summarize and respond to the issues raised during public comment and peer review. Substantive comments may or may not result in changes to the recovery plan. Comments regarding recovery plan implementation will be forwarded as appropriate to Federal agencies or other entities so that they can be taken into account during the course of implementation of recovery actions.

We invite written comments on this draft recovery plan. In particular, we are interested in additional information regarding the current threats to the species, ongoing beneficial management efforts, and the costs associated with implementing the recommended recovery actions. The species status assessment is accessible as a supporting document for the draft recovery plan, but we are not seeking comments on that document. We will consider all comments we receive by the date specified in DATES, above, prior to final approval of the plan.

Public Availability of Comments

All comments we receive, including names and addresses, will become part of the administrative record and will be available to the public. Before including your address, phone number, email address, or other personal identifying information in your comment, you should be aware that your entire comment—including your personal identifying information—will be publicly available. While you may request in your comment that we withhold your personal identifying information from public review, we cannot guarantee that we will be able to do so.

Authority

We developed our draft recovery plan and publish this notice under the authority of section 4(f) of the Endangered Species Act of 1973, as amended (16 U.S.C. 1531 et seq.).

Amy L. Lueders,
Regional Director, Southwest Region, U.S. Fish and Wildlife Service.

[FR Doc. 2022-00362 Filed 1-11-22; 8:45 am]

BILLING CODE 4333-15-P